LIBRARY OF CONGRESS

Copyright Office

37 CFR Chapter II

[Docket No. 2019-7]

Online Publication

AGENCY: U.S. Copyright Office, Library of Congress.

ACTION: Notification of inquiry; extension of comment period.

SUMMARY: The U.S. Copyright Office is extending the deadline for the submission of written reply comments in response to its December 4, 2019 notification of inquiry regarding online publication.

DATES: The comment period for the notification of inquiry published December 4, 2019, at 84 FR 66328, is extended. Written comments must be received no later than 11:59 p.m. Eastern Time on March 19, 2020. Written reply comments must be submitted no later than 11:59 p.m. Eastern Time on April 16, 2020.

ADDRESSES: For reasons of government efficiency, the Copyright Office is using the regulations.gov system for the submission and posting of public comments in this proceeding. All comments are therefore to be submitted electronically through regulations.gov. Specific instructions for submitting comments are available on the Copyright Office's website at https://www.copyright.gov/rulemaking/online-publication/. If electronic submission of comments is not feasible due to lack of access to a computer and/or the internet, please contact the Office using the contact information below for special instructions.

FOR FURTHER INFORMATION CONTACT: Regan A. Smith, General Counsel and Associate Register of Copyrights, by email at regans@copyright.gov, Robert J. Kasunic, Associate Register of Copyrights and Director of Registration Policy and Practice, by email at rkas@copyright.gov, or Jordana Rubel, Associate General Counsel, by email at jrubel@copyright.gov. Each can be contacted by telephone by calling (202) 707-3000.

SUPPLEMENTARY INFORMATION: On December 4, 2019, the U.S. Copyright Office issued a notification of inquiry (“NOI”) regarding online publication. 84 FR 66328 (Dec. 4, 2019). The Office solicited public comments on a broad range of issues concerning application of the statutory definition of publication to the online context.

To ensure that members of the public have sufficient time to comment, and to ensure that the Office has the benefit of a complete record, the Office is extending the deadline for the submission of comments to no later than 11:59 p.m. Eastern Time on March 19, 2020. The Office is also extending the deadline for the submission of reply comments to no later than 11:59 p.m. Eastern Time on April 16, 2020.

Dated: January 13, 2020.
Regan A. Smith,
General Counsel and Associate Register of Copyrights.

[FR Doc. 2020-00653 Filed 1-17-20; 8:45 am]

BILLING CODE 1410-30-P